DEPARTMENT OF HEALTH AND HUMAN SERVICES

National Institutes of Health

National Institute on Aging; Amended Notice of Meeting

Notice is hereby given of a change in the meeting of the Board of Scientific Counselors, NIA, May 13, 2003, 8 a.m. to May 14, 2003, 3 p.m, Gerontology Research Center, National Institutes of Health, 5600 Nathan Shock Drive, Baltimore, MD, 21224-6825 which was published in the Federal Register on April 8, 1003, 68 FR 17962.

The portion of the meeting being held May 14, 2003 from 2:30 to 3 p.m. will be closed. The meeting is partially closed to the public.

Dated: May 8, 2003.
Anna P. Snouffer,
Acting Director, Office of Federal Advisory Committee Policy.

[FR Doc. 03-12086 Filed 5-14-03; 8:45 am]

BILLING CODE 4140-01-M